THE NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue NW., Washington, DC 20506.

FOR FURTHER INFORMATION CONTACT: Lisette Voyatzis, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: March 13, 2012.

Time: 8:30 a.m. to 5 p.m.

Room: 315.

Program: This meeting will review applications on the subject of History submitted to the Scholarly Editions grant program in the Division of Research Programs, at the December 8, 2011 deadline.

2. Date: March 14, 2012.

Time: 8:30 a.m. to 5 p.m.

Room: 315.

Program: This meeting will review applications on the subject of Literature submitted to the Scholarly Editions grant program in the Division of Research Programs, at the December 8, 2011 deadline.

3. Date: March 20, 2012.

Time: 8:30 a.m. to 5 p.m.

Room: 315.

Program: This meeting will review applications on the subject of Philosophy and Religion submitted to the Scholarly Editions grant program in the Division of Research Programs, at the December 8, 2011 deadline.

4. Date: March 20, 2012.

Time: 9 a.m. to 5 p.m.

Room: 415.

Program: This meeting will review applications for The Sustaining Cultural Heritage Collections grant program, submitted to the Division of Preservation and Access at the December 1, 2011 deadline.

5. Date: March 21, 2012.

Time: 8:30 a.m. to 5 p.m.

Room: 315.

Program: This meeting will review applications on the subject of History and Literature submitted to the Collaborative Research grant program in the Division of Research Programs, at the December 8, 2011 deadline.

6. Date: March 22, 2012.

Time: 9 a.m. to 5 p.m.

Room: 415.

Program: This meeting will review applications for The Sustaining Cultural Heritage Collections grant program, submitted to the Division of Preservation and Access at the December 1, 2011 deadline.

7. Date: March 22, 2012.

Time: 8:30 a.m. to 5 p.m.

Room: 315.

Program: This meeting will review applications on the subject of the Americas submitted to the Collaborative Research grant program in the Division of Research Programs, at the December 8, 2011 deadline.

8. Date: March 26, 2012.

Time: 9 a.m. to 5 p.m.

Room: 421.

Program: This meeting will review applications on the subject of African American History & Sites submitted to the America's Historical and Cultural Organizations grants program in the Division of Public Programs, at the January 11, 2012 deadline.

9. Date: March 27, 2012.

Time: 8:30 a.m. to 5 p.m.

Room: 527.

Program: This meeting will review applications on the subject of the Arts submitted to the Scholarly Editions grant program in the Division of Research Programs, at the December 8, 2011 deadline.

10. Date: March 28, 2012.

Time: 8:30 a.m. to 5 p.m.

Room: 527.

Program: This meeting will review applications on the subject of Old World Archaeology submitted to the Collaborative Research grant program in the Division of Research Programs, at the December 8, 2011 deadline.

11. Date: March 28, 2012.

Time: 9 a.m. to 5 p.m.

Room: 421.

Program: This meeting will review applications for Digital Projects in the America's Historical and Cultural Organizations grants program, submitted to the Division of Public Programs, at the January 11, 2012 deadline.

12. Date: March 29, 2012.

Time: 9 a.m. to 5 p.m.

Room: 315.

Program: This meeting will review applications for The Sustaining Cultural Heritage Collections grant program, submitted to the Division of Preservation and Access at the December 1, 2011 deadline.

13. Date: March 29, 2012.

Time: 9 a.m. to 5 p.m.

Room: 421.

Program: This meeting will review applications on the subject of United States History submitted to the America's Media Makers grants program in the Division of Public Programs, at the January 11, 2012 deadline.

Lisette Voyatzis,
Advisory Committee Management Officer.

[FR Doc. 2012-3753 Filed 2-16-12; 8:45 am]

BILLING CODE 7536-01-P